DEPARTMENT OF THE INTERIOR

Bureau of Land Management

[ID-400-1120-PH]

Notice of Public Meeting, Coeur d'Alene District Resource Advisory Council Meeting; Idaho

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Coeur d'Alene District Resource Advisory Council (RAC) will meet as indicated below.

DATES: December 2 and 3, 2004. The meeting will be held in the conference room at Coffeeville located at 1710 North 4th Street in Coeur d'Alene on December 2nd from 10:30 a.m. to 5 p.m. and on December 3rd from 8 a.m. to about 2 p.m. The public comment period will be from 8 a.m. to 9 a.m. on December 3, 2004.

FOR FURTHER INFORMATION CONTACT: Stephanie Snook, RAC Coordinator, BLM Coeur d'Alene District, 1808 N. Third Street, Coeur d'Alene, Idaho 83814 or telephone (208) 769-5004.

SUPPLEMENTARY INFORMATION: The 15-member Council advises the Secretary of the Interior, through the Bureau of Land Management, on a variety of planning and management issues associated with public land management in Idaho. The agenda for the December 2 and 3, 2004, meeting will include: Election of officers, an update on the Idaho BLM Reorganization, an overview of the Coeur d'Alene District programs, reports on past RAC meetings and an update on the Resource Management Plans being prepared for the Coeur d'Alene and Cottonwood Field Offices.

All meetings are open to the public. The public may present written comments to the Council. Each formal Council meeting will also have time allocated for hearing public comments. Depending on the number of persons wishing to comment and time available, the time for individual oral comments may be limited. Individuals who plan to attend and need special assistance, such as sign language interpretation or other reasonable accommodations, should contact the BLM as provided above.

Dated: October 26, 2004.
Stephanie Snook,
Acting District Manager.

[FR Doc. 04-24322 Filed 10-29-04; 8:45 am]

BILLING CODE 4310-GG-P